DEPARTMENT OF THE INTERIOR

National Park Service

[NPS-WASO-NAGPRA-NPS0037080; PPWOCRADN0-PCU00RP14.R50000]

Notice of Intent To Repatriate Cultural Items: The University of Kansas, Lawrence, KS

AGENCY: National Park Service, Interior.

ACTION: Notice.

SUMMARY: In accordance with the Native American Graves Protection and Repatriation Act (NAGPRA), the University of Kansas intends to repatriate a certain cultural item that meets the definition of a sacred object and that has a cultural affiliation with the Indian Tribes or Native Hawaiian organizations in this notice. The cultural item was removed from Sonora, Mexico.

DATES: Repatriation of the cultural item in this notice may occur on or after January 18, 2024.

ADDRESSES: Dr. Thomas Torma, NAGPRA Program Manager, The University of Kansas, Office of Audit, Risk & Compliance, 1450 Jayhawk Boulevard, 351 Strong Hall, Lawrence, KS 66045, telephone (406) 850-2220, email t-torma@ku.edu.

SUPPLEMENTARY INFORMATION: This notice is published as part of the National Park Service's administrative responsibilities under NAGPRA. The determinations in this notice are the sole responsibility of the University of Kansas. The National Park Service is not responsible for the determinations in this notice. Additional information on the determinations in this notice, including the results of consultation, can be found in the summary or related records held by the University of Kansas.

Description

The one cultural item was removed from Sonora, Mexico, at an unknown time. The item is a Pascola Mask, used by the Yaqui people during Holy Week celebrations. The mask was collected by J. Cotter Hirschberg, M.D. at an unknown date. In December 1967, Dr. Hirschberg donated the mask to the Museum and Archives Division of the Menninger Foundation, a psychiatric facility located in Topeka at that time. The mask was received at Kansas University Museum of Anthropology (KUMA) as a donation from the Menninger Foundation in 1993. KUMA closed to the public in August 2002. In July of 2005, the collections were renamed the Anthropological Research and Cultural Collections (ARCC). In January of 2007, the collection was transferred from the ARCC to the Spencer Museum of Art. The one sacred object is a Yaqui Pascola Mask.

Cultural Affiliation

The cultural item in this notice is connected to one or more identifiable earlier groups, tribes, peoples, or cultures. There is a relationship of shared group identity between the identifiable earlier groups, tribes, peoples, or cultures and one or more Indian Tribes or Native Hawaiian organizations. The following types of information were used to reasonably trace the relationship: anthropological information, folklore, geographical information, historical information, kinship, and expert opinion.

Determinations

Pursuant to NAGPRA and its implementing regulations, and after consultation with the appropriate Indian Tribes and Native Hawaiian organizations, the University of Kansas has determined that:

• The one cultural item described above is a specific ceremonial object needed by traditional Native American religious leaders for the practice of traditional Native American religions by their present-day adherents.

• There is a relationship of shared group identity that can be reasonably traced between the cultural item and the Pascua Yaqui Tribe of Arizona.

Requests for Repatriation

Additional, written requests for repatriation of the cultural item in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after January 18, 2024. If competing requests for repatriation are received, the University of Kansas must determine the most appropriate requestor prior to repatriation. Requests for joint repatriation of the cultural item are considered a single request and not competing requests. The University of Kansas is responsible for sending a copy of this notice to the Indian Tribes and Native Hawaiian organizations identified in this notice.

Authority: Native American Graves Protection and Repatriation Act, 25 U.S.C. 3003, and the implementing regulations, 43 CFR 10.8, 10.10, and 10.14.

Dated: December 8, 2023.
Melanie O'Brien,
Manager, National NAGPRA Program.

[FR Doc. 2023-27790 Filed 12-18-23; 8:45 am]

BILLING CODE 4312-52-P